DEPARTMENT OF COMMERCE

National Oceanic and Atmospheric Administration

[RTID 0648-XV177]

Fishing Capacity Reduction Program for the Bering Sea and Aleutian Islands American Fisheries Act Pollock

AGENCY: National Marine Fisheries Service (NMFS), National Oceanic and Atmospheric Administration (NOAA), Commerce.

ACTION: Notice of loan repayment.

SUMMARY: NMFS issues this notice to inform interested parties that the Bering Sea and Aleutian Islands (BSAI) American Fisheries Act (AFA) Pollock loan in the fishing capacity reduction program for the inshore component of the BSAI Pollock Fishery has been repaid. Therefore, buyback fee collections on AFA Pollock will cease for all landings after February 29, 2020.

DATES: Comments must be submitted on or before 5 p.m. EST March 20, 2020.

ADDRESSES: Send comments about this notice to Elaine Saiz, Chief, Financial Services Division, NMFS, Attn: BS/AI AFA Pollock Buyback, 1315 East-West Highway #13100, Silver Spring, MD 20910 (see FOR FURTHER INFORMATION CONTACT).

FOR FURTHER INFORMATION CONTACT: Michael A. Sturtevant at (301) 427-8782 or Michael.A.Sturtevant@noaa.gov.

SUPPLEMENTARY INFORMATION: On December 21, 1999, NMFS published a Federal Register document (64 FR 71396) proposing regulations to implement an industry fee system for repaying the reduction loan. The final rule was effective and fees were first due on February 10, 2000 (65 FR 5278, February 3, 2000). Interested persons should review these for further program details.

The BSAI AFA Pollock Capacity Reduction (Buyback) loan in the amount of $75,000,000 will be repaid in full upon receipt of buyback fees on landings through February 29, 2020. Based on buyback fees received to date, landings after February 29, 2020, will not be subject to the buyback fee. Therefore, buyback loan fees will no longer be collected in the BS/AI Pollock Fishery on future landings.

Buyback fees not yet forwarded to NMFS for AFA Pollock landings through February 29, 2020, should be forwarded to NMFS immediately. Any overpayment of buyback fees submitted to NMFS will be refunded on a pro-rata basis based upon best available fish ticket landings data. Any discrepancies in fees owed and fees paid must be resolved immediately. After the sub-loan is closed, no further adjustments to fees paid and fees received can be made.

Dated: February 28, 2020.
Brian Pawlak,
Chief Financial Officer/Chief Administrative Officer, Director, Office of Management and Budget, National Marine Fisheries Service.

[FR Doc. 2020-04473 Filed 3-2-20; 4:15 pm]

BILLING CODE 3510-22-P